DEPARTMENT OF LABOR

Employment and Training Administration

[TA-W-64,105]

Nana Management Services; Anchorage, AL; Notice of Termination of Investigation

Pursuant to Section 221 of the Trade Act of 1974, as amended, an investigation was initiated on September 24, 2008, in response to a worker petition filed by a company official on behalf of workers of Nana Management Services, Anchorage, Alaska.

The petitioning group of workers is covered by an active certification, (TA-W-62,220) which expires on January 8, 2010. Consequently, further investigation in this case would serve no purpose, and the investigation has been terminated.

Signed in Washington, DC, this 22nd day of October 2008.
Elliott S. Kushner,
Certifying Officer, Division of Trade Adjustment Assistance.

[FR Doc. E8-26053 Filed 10-31-08; 8:45 am]

BILLING CODE 4510-FN-P